ENVIRONMENTAL PROTECTION AGENCY

[FRL-6880-2]

Notice of Proposed Administrative Settlement Pursuant To The Comprehensive Environmental Response, Compensation, and Liability Act

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement concerning the Eagle Picher Henryetta Superfund Site, (“Site”) with the Oklahoma Department of Environmental Quality, (“ODEQ”) the City of Henryetta, Oklahoma, (“ACity”), and the United States Environmental Protection Agency (“EPA”).

The settlement requires the City to assume future operation and maintenance of the remedy at the Site, record a Notice of Deed Restriction in the property records, and preserve EPA's and ODEQ's right of access.

As soon as reasonably practicable after the effective date of this Agreement, and consistent with Paragraph 26 of the Settlement Agreement, the City shall file in the land records of Okmulgee County a Notice of Deed Restriction notifying subsequent purchasers of the smelter facility portion of the Site that hazardous substances were disposed and will continue to remain in the soils at the former smelter facility.

The settlement includes a covenant not to sue under Section 107 of CERCLA, 42 U.S.C. 9607.

For thirty (30) days following the date of publication of this notice, the Agency will receive written comments relating to the settlement. The Agency will consider all comments received and may withdraw or withhold its consent to the proposed settlement if comments received disclose facts or considerations which indicate that the settlement is inappropriate, improper, or inadequate. The Agency's response to any comments received will be available for public inspection at 1445 Ross Avenue, Dallas, Texas 75202-2733.

DATES: Comments must be submitted on or before November 2, 2000.

ADDRESSES: The proposed settlement and additional background information relating to the settlement are available for public inspection at 1445 Ross Avenue, Dallas, Texas 75202-2733. A copy of the proposed settlement may be obtained from Barbara J. Aldridge (6SF-AC), U.S. Environmental Protection Agency Region 6, 1445 Ross Avenue, Dallas, Texas 75202-2733 at (214) 665-2712. Comments should reference the Eagle Picher Henryetta Superfund Site, Henryetta, Oklahoma, and EPA Docket Number 6-05-2000, and should be addressed to Tracy Sheppard at the address listed below.

FOR FURTHER INFORMATION CONTACT: Tracy Sheppard (6RC-S), U.S. Environmental Protection Agency 1445 Ross Avenue, Dallas, Texas 75202-2733 at (214) 665-8018.

Dated: September 20, 2000.
Pamela Phillips,
Acting Regional Administrator.

[FR Doc. 00-25350 Filed 10-2-00; 8:45 am]

BILLING CODE 6560-50-P